NEIGHBORHOOD REINVESTMENT CORPORATION

Corporate Administration Committee Board of Directors Meeting; Sunshine Act

Time and Date: 1 p.m., Monday, November 14, 2011.

Place: 1325 G Street NW., Suite 800, Boardroom, Washington, DC 20005.

Status: Open.

Contact Person for More Information: Erica Hall, Assistant Corporate Secretary, (202) 220-2376; ehall@nw.org.

Agenda:

I. Call To Order

Executive Session

II. Update—Human Resources

III. Benefits Activities

IV. PeopleSoft Implementation Update

V. Strategic Planning Implementation

VI. Adjournment

Erica Hall,
Assistant Corporate Secretary.

[FR Doc. 2011-28567 Filed 11-1-11; 11:15 am]

BILLING CODE 7570-02-P